DEPARTMENT OF THE INTERIOR

Bureau of Land Management

[LLCO-9230000-L1430000-ET0000; COC-0124534]

Public Land Order No. 7783; Extension of Withdrawal Created by Subtitle A of Public Law 104-201; CO

AGENCY: Bureau of Land Management, Interior.

ACTION: Public Land Order.

SUMMARY: This order extends the duration of a withdrawal created by Subtitle A of Public Law 104-201 for an additional 15-year period. Subtitle A of Public Law 104-201 withdrew 3,133 acres of public lands and 11,415 acres of Federally owned minerals at the Fort Carson Military Reservation, and 2,517 acres of public lands and approximately 130,139 acres of Federally owned minerals at the Piñon Canyon Maneuver Site from all forms of appropriation under the public land laws, including the mining laws, mineral and geothermal leasing laws, and mineral materials disposal laws, and reserved the lands for use by the Army for military maneuvering, training and weapons firing, and other consistent defense-related purposes as specified in the Act. The withdrawal extension is necessary to continue protection and use of the lands for military readiness purposes.

DATES: Effective Date: September 23, 2011.

FOR FURTHER INFORMATION CONTACT: John D. Beck, Branch of Lands and Realty, Bureau of Land Management Colorado State Office, (303) 239-3882. Persons who use a telecommunications device for the deaf (TDD) may call the Federal Information Relay Service (FIRS) at 1-800-877-8339 to reach the Bureau of Land Management contact during normal business hours. The FIRS is available 24 hours a day, 7 days a week, to leave a message or question with the above individual. You will receive a reply during normal business hours.

SUPPLEMENTARY INFORMATION: In accordance with Sec. 2908(b) of Public Law 104-201, Subtitle A, the Department of the Army has notified the Department of the Interior that it has a continuing military need for the withdrawn lands. The purpose for which the withdrawal was first made requires this extension in order for the lands to continue to be used for military readiness purposes. The withdrawal extended by this order will expire on September 22, 2026, unless as a result of a review conducted before the expiration date pursuant to the provisions of Public Law 104-201 and Section 204(f) of the Federal Land Policy and Management Act of 1976, 43 U.S.C. 1714(f), the Secretary determines that the withdrawal shall be further extended.

Order

By virtue of the authority of the Secretary of the Interior by Section 204 of the Federal Land Policy and Management Act of 1976, 43 U.S.C. 1714, and Section 2908 of Public Law 104-201, Subtitle A, it is ordered as follows:

The withdrawal created by Subtitle A of Public Law 104-201 (110 Stat 2807 (1996)), which withdrew 3,133 acres of public lands and 11,415 acres of Federally owned minerals at the Fort Carson Military Reservation, and 2,517 acres of public lands and approximately 130,139 acres of Federally owned minerals at the Piñon Canyon Maneuver Site from all forms of appropriation under the public land laws, including the mining laws, mineral and geothermal leasing laws, and mineral materials disposal laws, and reserved the lands for use by the Army for military maneuvering, training and weapons firing, and other consistent defense-related purposes as specified in Subtitle A of the Act, is hereby extended for an additional 15-year term until September 22, 2026.

Dated: September 19, 2011.
Rhea S. Suh,
Assistant Secretary—Policy, Management and Budget.

[FR Doc. 2011-24524 Filed 9-22-11; 8:45 am]

BILLING CODE 3710-08-P